DEPARTMENT OF THE TREASURY

Internal Revenue Service

26 CFR Part 1

Income Taxes

CFR Correction

In Title 26 of the Code of Federal Regulations, Part 1 (§ 1.1551 to End), revised as of April 1, 2007, on page 439, in § 1.6654-2, in the undesignated paragraph following paragraph (d)(2)(ii)(B), make the following changes:

1. In the first sentence, after the word “attributable”, insert the words “to months in such partnership taxable”; and

2. At the beginning of the third sentence, remove the words “In addition, a partner shall include in his taxing after December” and add the words “In addition, a partner shall include in his taxable income and, for taxable years beginning after December” in their place.

[FR Doc. 08-55505 Filed 3-18-08; 8:45 am]

BILLING CODE 1505-01-D